DEPARTMENT OF COMMERCE

Foreign-Trade Zones Board

[B-36-2017]

Foreign-Trade Zone (FTZ) 64—Jacksonville, Florida; Authorization of Production Activity; Hans-Mill Corporation (Household Trash Cans and Plastic Storage Totes), Jacksonville, Florida

On May 10, 2017, Hans-Mill Corporation submitted a notification of proposed production activity to the FTZ Board for its facility within Subzone 64D, in Jacksonville, Florida.

The notification was processed in accordance with the regulations of the FTZ Board (15 CFR part 400), including notice in the Federal Register inviting public comment (82 FR 25596, June 2, 2017). On September 7, 2017, the applicant was notified of the FTZ Board's decision that no further review of the activity is warranted at this time. The production activity described in the notification was authorized, subject to the FTZ Act and the FTZ Board's regulations, including Section 400.14.

Dated: September 22, 2017.
Andrew McGilvray,
Executive Secretary.

[FR Doc. 2017-20818 Filed 9-27-17; 8:45 am]

BILLING CODE 3510-DS-P